DEPARTMENT OF THE INTERIOR

Bureau of Land Management

[OR-057-1040-PH-GPO-0300]

Proposed Information Collection—Program Evaluation for the National Riparian Service Team and Extended Riparian Network

AGENCY: Bureau of Land Management, Interior.

ACTION: Notice and request for comments.

SUMMARY: In accordance with the Paperwork Reduction Act of 1995, the Bureau of Land Management, the U.S. Forest Service, and the National Resource Conservation Service announce its intention to request approval for the collection of new information. The Bureau of Land Management (BLM) is soliciting comments concerning a proposed collection of information, conducting surveys and interviews of individuals who work within or receive services from the interagency National Riparian Service Team (NRST) and the extended riparian network. The information will allow the BLM to measure satisfaction and program effectiveness, and comply with the requirements and spirit of the Government Performance and Results Act of 1993 and Executive Order No. 12862.

DATES: BLM must receive comments on the proposed information collection by October 2, 2000.

ADDRESSES: Mail comments to: Director (630), Bureau of Land Management, 1849 C Street, NW., Room 401LS, Washington, DC 20240.

Send comments via Internet to: WOComment@blm.gov. Please include “NRST Survey” and your name and return address in your Internet message.

You may hand-deliver comments to the Bureau of Land Management Administrative Record, Room 401, 1620 L Street, NW., Washington, DC.

BLM will make comments available for public review at the L Street address during regular business hours (7:45 a.m. to 4:15 p.m.), Monday through Friday.

FOR FURTHER INFORMATION CONTACT: Laura Van Riper, Bureua of Land Management, 541-416-6702.

SUPPLEMENTARY INFORMATION: In accordance with 5 CFR 1320.12(a) BLM must provide 60-day notice in the Federal Register concerning a proposed collection of information to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget (OMB) under 44 U.S.C. 3501 et seq.

I. Background

On March 20, 1996 the Agency heads of the USDI Bureau of Land Management and the USDA Forest Service signed a letter agreeing to aggressively implement a cooperative management strategy to accelerate the restoration and improved management of riparian-wetland areas in the western United States. The USDA Natural Resource Conservation Service is a principal partner in this strategy. The NRST, which is an interagency team that is service oriented and emphasizes collaboration to accomplish riparian-wetland restoration objectives, serves as a catalyst for this effort.

In an effort to improve Federal program effectiveness and public accountability, the Government Performance and Results Act of 1993 (Sec. 2, Pub. L. 103-62) promotes a new focus on results, service quality, and customer satisfaction. This course of action is fortified by Executive Order Number 12862, signed by President Clinton on September 11, 1993, which is aimed at ensuring the Federal Government provides the highest quality service possible to the American people. In order to fulfill these responsibilities, the BLM is in the process of conducting a program evaluation of the NRST and the extended riparian network.

Different program evaluation models exist within the field of evaluation research, and it is widely recognized that multiple approaches should be used in an attempt to increase the validity of the overall evaluation by balancing out the strengths and weaknesses of different approaches. This study will be divided into two stages, using two complementary approaches. The first will be a large scale, quantitative mail survey, designed to attain generalizable and objective measures of customer satisfaction and program effectiveness. The second stage will be a qualitative, in-depth analysis of two states that are part of the extended riparian network (case studies), with the goal of producing a comprehensive understanding of the factors that influence successful program implementation.

Information will be collected on a biannual basis and the stages will be staggered. The results will be used internally, and summaries will be provided to the Office of Management and Budget.

II. Current Actions

The request to OMB will be for a three-year clearance for the BLM to conduct surveys and interviews for the purposes of NRST program evaluation.

III. Methodology

Stage one: Respondents will be individuals who have participated in Proper Functioning Condition (PFC) training sessions/service trips sponsored by the National Team and the State Cadres (members of the extended riparian network). A randomized sampling technique will be used.

Respondents will be asked to voluntarily complete and return a mail survey. In an effort to achieve the goal of an 80% response rate, an advance-notice letter will be sent, followed by a questionnaire (with a cover letter and a prepaid return envelope), to each member of the sample. Approximately, one week later, a postcard reminder will be sent. Approximately two weeks later (three weeks from the initial mailing), another survey package will be sent to individuals who have not responded. A final reminder will be given after 30 days, either by mail or telephone.

Stage two: The second stage of the program evaluation will focus on two case studies. A stratified, purposive sampling technique will be employed to ensure the sample is representative of the range of viewpoints. Approximately 15-20 respondents will be chosen from each state. Unlike stage one, the sampling strategy employed within stage two is designed to provide an in-depth understanding of representative types of individuals who work within or receive services from the NRST and the extended riparian network.

Prospective respondents will be sent an advance-notice letter, introducing the study and requesting their participation in a voluntary face-to-face interview. These individuals will be contacted by phone and a time for conducting the interview will be established. Interviews will consist of primarily open-ended questions, and an interview guide will be used to ensure results are comparable across interviews. Given that this is a face-to-face interview, a 100% response rate is expected.

Questions in both stages' one and two will address the following areas: (1) Satisfaction with the team as a facilitator of cooperative riparian restoration/management; (2) program effectiveness (e.g., on-the-ground implementation and/or achievement of interim steps toward implementation of riparian management strategies; impact of thought process, PFC as a tool for creating a common vocabulary, for facilitating effective cooperation); and (3) general demographic information.

Data gathered in this information collection is not available from other sources. Furthermore, the use of different methods will allow for the collection of different types of information. Unlike a quantitative approach, qualitative methods recognize the importance of background and context to the process of understanding interpreting data. The results generated from stage one (primarily quantitative—mail survey) will be generalizable, and will provide the opportunity to evaluate perceptions regarding customer satisfaction and program effectiveness. The results generated from stage two (primarily qualitative—interviews) will be necessary to understand why different “representative types” hold certain perceptions.

IV. Burden on Respondent

A. Stage one: The average public reporting burden for the mail survey is estimated to be 25 minutes per respondent, and the frequency of response is once every other year. The number of responses is estimated to total 500. The estimated total annual burden is approximately 210 hours biannually (500 respondents every two years × .42 hours per respondent = 210 hours biannually).

B. Stage two: The average public reporting burden for an in-depth, face-to-face interview is 45 minutes per respondent. The respondents are both internal and external customers of the NRST. The frequency of response is once every other year. The number of responses is estimated to be between 30 and 40. The estimated total annual burden is approximately 22.5 hours biannually at a minimum, and 30 hours biannually at a maximum (30 respondents every other year × .75 hours per respondent = 22.5 hours biannually; 40 respondents every other year × .75 hours per respondent = 30 hours biannually).

The total biannual response burden will be between 232.5 (minimum) and 240 (maximum) hours. BLM is specifically requesting your comments on these estimates.

BLM will summarize all responses to this notice and include in the request for Office of Management and Budget approval. Responses to this notice will also become a matter of public record.

Dated: July 21, 2000.
Shirlean Beshir,
BLM Information Clearance Officer.

[FR Doc. 00-18951 Filed 8-2-00; 8:45 am]

BILLING CODE 4310-84-M